DEPARTMENT OF THE INTERIOR

Fish and Wildlife Service

Information Collection Submitted to the Office of Management and Budget (OMB) for Approval Under the Paperwork Reduction Act; Federal Aid Grant Application Booklet

AGENCY: Fish and Wildlife Service, Interior.

ACTION: Notice; request for comments.

SUMMARY: The U.S. Fish and Wildlife Service (We) has submitted the collection of information listed below to OMB for approval under the provisions of the Paperwork Reduction Act. If you wish to obtain copies of the proposed information collection requirement, related forms, or explanatory material, contact the Service Information Collection Clearance Officer at the address listed below.

DATES: You must submit comments by February 9, 2004.

ADDRESSES: Submit your comments on this information collection renewal to the Desk Officer for the Department of the Interior at OMB-OIRA via facsimile or e-mail using the following fax number or e-mail address: (202) 395-6566 (fax); OIRA_DOCKET@omb.eop.gov (e-mail). Please provide a copy of your comments to the Fish and Wildlife Service's Information Collection Clearance Officer, 4401 N. Fairfax Dr., MS 222 ARLSQ, Arlington, VA 22203; (703) 358-2269 (fax); or anissa_craghead@fws.gov (e-mail).

FOR FURTHER INFORMATION CONTACT: To request a copy of the information collection request, explanatory information, or related forms, contact Anissa Craghead at (703) 358-2445, or electronically to anissa_craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We have submitted a request to OMB to renew its approval of the collection of information for the Federal Aid Grant Application Booklet. We are requesting a 3-year term of approval for this information collection activity.

Federal agencies may not conduct or sponsor, and a person is not required to respond to, a collection of information unless it displays a currently valid OMB control number. The OMB control number for this collection of information is 1018-0109.

The Federal Aid Grant Application Booklet offers the public information on how to apply for certain Federal grants. This information collection is authorized by the Federal Aid in Sport Fish Restoration Act (16 U.S.C. 777-777l), Federal Aid in Wildlife Restoration Act (16 U.S.C. 669-669i), Partnerships for Wildlife Act (16 U.S.C. 3741), Coastal Wetlands Planning, Protection and Restoration Act (16 U.S.C. 3954), Endangered Species Act (16 U.S.C. 1531 et seq.), Clean Vessel Act of 1992 (16 U.S.C. 777), Migratory Bird Treaty Act (16 U.S.C. 703-712), the annual Department of the Interior and Related Agencies Appropriation Acts, and 50 CFR 80. This information collection covers many types of grant programs, including, but not limited to: Sport Fish Restoration, Wildlife Restoration, Coastal Wetland Restoration, Clean Vessel, Boating Infrastructure, Partnerships for Wildlife, and Endangered Species. We collect information relevant to eligibility, substantiality, relative value, and budget information from applicants in order to make awards of grants under applicable programs. We also collect financial and performance information to track costs and accomplishments of applicable grant programs. We need the information collected to support the grant work of our Division of Federal Assistance. In this renewal request, we are proposing minimal changes to the Federal Aid Grant Application Booklet to bring it into accord with our current authorities (such as by adding “Annual DOI Appropriations Acts” to our list of authorizing Acts) and to update contact information.

Title: Federal Aid Grant Application Booklet, 50 CFR 80.

Approval Number: 1018-0109.

Frequency of Collection: Annually.

Description of Respondents: The 50 U.S. States, the Commonwealth of Puerto Rico, the District of Columbia, the Commonwealth of the Northern Mariana Islands, Guam, the Virgin Islands, American Samoa, Indian Tribal Governments, and not-for-profit institutions.

Total Annual Burden Hours
Form name | Completion time per form | Annual number of responses | Annual hour burden
Initial Proposal | 80 hours | 4,000 | 320,000
Amendment | 2 hours | 1,750 | 3,500
TOTALS |  | 5,750 | 323,500

We again invite comments on: (1) Whether the collection of information is necessary for the proper performance of the functions of the agency, including whether the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: December 30, 2003.
Anissa Craghead,
Information Collection Officer.

[FR Doc. 04-435 Filed 1-8-04; 8:45 am]

BILLING CODE 4310-55-P